DEPARTMENT OF THE INTERIOR

Bureau of Land Management

[LLIDB00000 L17110000.PH0000 LXSS024D0000]

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held June 9, 2010 at the Boise District Offices beginning at 9 a.m. and adjourning at 4:30 p.m. Members of the public are invited to attend. A comment period will be held following the Field Office Updates.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. Items on the agenda will include reports by the RAC's Resource Management Plan, Off Highway Vehicle and Transportation Management, and Permit Renewal/Litigation subgroups. Updates on the status of Economic Recovery and Reinvestment Act of 2009 (ARRA) projects in the Boise District, and on actions related to the implementation of the Owyhee Public Lands Management Act (OMA) will be provided. Field Office managers will provide highlights for discussion on activities in their offices. Agenda items and location may change due to changing circumstances. All RAC meetings are open to the public. The public may present written or oral comments to members of the Council. At each full RAC meeting, time is provided in the agenda for hearing public comments. Depending on the number of persons wishing to comment and time available, the time for individual oral comments may be limited. Individuals who plan to attend and need special assistance, should contact the BLM Coordinator as provided above.

David Wolf,
Associate District Manager.

[FR Doc. 2010-11964 Filed 5-18-10; 8:45 am]

BILLING CODE 4310-GG-P